DEPARTMENT OF COMMERCE

International Trade Administration

[C-580-842]

Structural Steel Beams From the Republic of Korea: Notice of Initiation of Changed Circumstances Countervailing Duty Administrative Review

AGENCY: Import Administration, International Trade Administration, Department of Commerce.

ACTION: Notice of initiation of changed circumstances countervailing duty administrative review.

SUMMARY: On August 6, 2001, the Department of Commerce (“Department”) received a letter on behalf of the INI Steel Company (“INI”), formerly Inchon Iron and Steel Co., Ltd. (“Inchon”), notifying the Department that Inchon's corporate name has changed to INI Steel Company. INI requests that the Department initiate a changed circumstance administrative review to confirm that INI is the successor-in-interest to Inchon, and excluded from the order.

FOR FURTHER INFORMATION CONTACT: Tipten Troidl or Richard Herring, Import Administration, International Trade Administration, U.S. Department of Commerce, 14th Street and Constitution Avenue, NW., Washington, DC 20230; telephone (202) 482-2786.

SUPPLEMENTARY INFORMATION:

Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department's regulations are to the regulations at 19 CFR Part 351 (2001).

Background

In an August 6, 2001, letter to the Department, INI Steel Company, formerly Inchon Iron and Steel Co., Ltd., notified the Department that as of August 1, 2001, Inchon's corporate name had changed to INI Steel Company. INI stated that its owners, management structure, production facilities, supplier relationships and customer base are unchanged and unaffected by the adoption of the new corporate name. INI provided documentation to support the official adoption of a new corporate name consisting of: The minutes of Inchon's July 27, 2001 shareholders' meeting where the name change was approved; the Inchon District Court's official certification of the name change registered on July 31, 2001; and INI's Business Registration Certificate issued on August 1, 2001 by the Inchon Tax Office.

Scope of the Review

The products covered by this review include structural steel beams that are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subjeadings are provided for convenience and Customs purposes, the written description of the merchandise under investigation is dispositive.

Initiation of Changed Circumstance CVD Review

At the request of INI, and in accordance with sections 751(b)(1) of the Act, and section 351.216 of the Department's regulations, the Department is initiating a changed circumstance review of stainless steel sheet and strip in coils from Korea to determine whether INI is the successor-in-interest to Inchon Iron and Steel, Co., Ltd.

The information submitted by INI shows changed circumstances sufficient to warrant a review under 19 CFR 351.216. We will publish in the Federal Register a notice of preliminary results of countervailing duty changed circumstances review, in accordance with 19 CFR 351.221(b)(4) and 351.221(c)(3)(i), which will set forth the factual and legal conclusions upon which our preliminary results are based and a description of any action proposed based on those results. As per 351.221(b)(4), interested parties will have an opportunity to comment. The Department will issue its final results of review in accordance with the time limitations set forth in 19 CFR 351.216(e). All written comments must be submitted to the Department and served on all interested parties on the Department's service list in accordance with 19 CFR 351.303.

During the course of this changed circumstances review, we will not change any cash deposit instructions on the merchandise subject to this changed circumstances review, unless a change it determined to be warranted pursuant to the final results of this review.

This notice is in accordance with section 751(b)(1) of the Act and 19 CFR 351.216 and 351.221.

Dated: September 21, 2001.
Faryar Shirzad.
Assistant Secretary for Import Administration.

[FR Doc. 01-24405 Filed 9-27-01; 8:45 am]

BILLING CODE 3510-DS-P